DEPARTMENT OF TRANSPORTATION

Federal Aviation Administration

14 CFR Part 73

[Docket No. FAA-2022-1116; Airspace Docket No. 22-ANE-5]

RIN 2120-AA66

Modification of Restricted Areas R-6501A and R-6501B; Underhill, VT

AGENCY: Federal Aviation Administration (FAA), DOT.

ACTION: Final rule.

SUMMARY: This action modifies restricted areas R-6501A and R-6501B, Underhill, VT, by amending the upper altitude limit of R-6501A and the lower altitude limit of R-6501B. Certain military activities near Underhill, VT, require restricted airspace that exceeds the current 4,000-foot mean sea level (MSL) upper altitude limit of R-6501A. As a result, R-6501B must be activated, along with R-6501A, to ensure containment of the hazardous activity. Raising the upper altitude limit of R-6501A from 4,000 feet MSL to but not including 4,900 feet MSL and the lower altitude limit of R-6501B from 4,000 feet MSL to 4,900 feet MSL, will result in more efficient use of airspace by reducing the need to activate R-6501B. This modification is fully contained within the existing lateral and vertical limits of R-6501A and B. The activities conducted in these restricted airspace areas are unchanged.

DATES: Effective date 0901 UTC, December 29, 2022.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority since it adjusts the upper altitude limit of R-6501A, and the lower altitude limit of R-6501B, to enable more efficient use of airspace.

Background

Restricted area R-6501A, Underhill, VT, extends from the surface to 4,000 feet MSL. The time of designation for the area is: “From 0700 to 2300 local time, Monday-Friday; 0000 Saturday to 2359 Sunday; and other times by NOTAM issued 24 hours in advance.”

Restricted area R-6501B directly overlies R-6501A and shares the same lateral boundaries. R-6501B extends from 4,000 feet MSL to 13,600 feet MSL. The time of designation is: “Intermittent by NOTAM 24 hours in advance.”

Currently, the altitude that separates the two areas is 4,000 feet MSL. The issue is that the 4,000 feet MSL ceiling of R-6501A is not sufficient to safely contain most activities being conducted. This requires that R-6501B also be activated along with R-6501A. However, the activation of R-6501B restricts the airspace all the way up to 13,600 feet MSL, even though the majority of R-6501B is not needed for certain operations. Raising the upper altitude limit of R-6501A from 4,000 feet MSL to “to but not including 4,900 feet MSL”; and the lower altitude limit of R-6501B from 4,000 feet MSL to “4,900 feet MSL” will eliminate the need to frequently activate R-6501B. This will make more airspace available for Air Traffic Control (ATC) and general aviation use.

To provide for more efficient use of airspace, the FAA and the using agency agreed to change the altitude that separates R-6501A and R-6501B from 4,000 feet MSL to 4,900 feet MSL. The new configuration enables activation of less restricted airspace to ensure containment of the majority of the using agency's training needs while maintaining the ability to activate additional restricted airspace for missions that require higher altitudes.

These changes will accommodate the using agency's requirements while releasing unneeded restricted airspace for access by other airspace users. With regard to the existing R-6501A and B, which abut, the lateral boundaries of the restricted airspace areas, the lowest and uppermost vertical limits of the airspace areas, and the activities conducted within the airspace are unchanged.

The Rule

This action amends 14 CFR part 73 by changing the upper altitude limit of R-6501A and lower altitude limit of R-6501B to adjust the internal altitude that separates them and minimizes the need to activate R-6501B. The time of designation for R-6501A and R-6501B remains the same as currently designated. The activities conducted within the restricted areas are unchanged.

This change enhances the efficient use of the National Airspace System by providing for activation of the minimum amount of restricted airspace needed for the specific mission being conducted, thereby releasing unneeded restricted airspace for access by other users. This reduces the burden on the flying public. Further, the modification does not change the current lateral boundaries, overall lowest and highest designated altitude limits, time of designation, or activities conducted within the restricted areas. Therefore, I find that notice and public procedure under 5 U.S.C. 553(b) are unnecessary.

Regulatory Notices and Analyses

The FAA has determined that this action only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

This action of modifying restricted areas R-6501A and R-6501B, by amending the internal altitude limits that separate them, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5f, which categorically excludes from further environmental impact review, actions that increase the altitude of special use airspace. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73. 51 [Amended]

2. § 73.65 is amended as follows:

* * * * *

R-6501A Underhill, VT [Amended]

By removing the current designated altitudes and substituting the following:

Designated altitudes. Surface to but not including 4,900 feet MSL.

R-6501B Underhill, VT [Amended]

By removing the current designated altitudes and substituting the following:

Designated altitudes. 4,900 feet MSL to 13,600 feet MSL.

* * * * *

Issued in Washington, DC, on September 19, 2022.
Eric S. Jennings,
Manager, Airspace Rules and Regulations.

[FR Doc. 2022-20577 Filed 9-21-22; 8:45 am]

BILLING CODE 4910-13-P